ENVIRONMENTAL PROTECTION AGENCY

[EPA-HQ-OPP-2016-0338; FRL-9948-03]

Alpha-chlorohydrin and Hydrogen Cyanamide Registration Review Interim Decisions; Notice of Availability

AGENCY: Environmental Protection Agency (EPA).

ACTION: Notice.

SUMMARY: This notice announces the availability of EPA's interim registration review decisions for the pesticides alpha-chlorohydrin (case 4120) and hydrogen cyanamide (case 7005). Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT:

For pesticide specific information, contact: The Chemical Review Manager for the pesticide of interest identified in the table in Unit II., Pesticide Re-Evaluation Division (7508P), Office of Pesticide Programs, Environmental Protection Agency, 1200 Pennsylvania Ave. NW., Washington, DC 20460-0001.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the table in Unit II.

FOR FURTHER INFORMATION CONTACT:

B. How can I get copies of this document and other related information?

The docket for this action, identified by docket identification (ID) number EPA-HQ-OPP-2016-0338 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

Pursuant to 40 CFR 155.58(c), this notice announces the availability of EPA's interim registration review decisions for the pesticides shown in the following table.

Table—Interim Registration Review Decisions
Registration review case name and No. | Pesticide docket ID No. | Chemical review manager, telephone number, email address
Alpha-chlorohydrin, Case 4120 | EPA-HQ-OPP-2015-0726 | Matthew Manupella, (703) 347-0411, manupella.matthew@epa.gov.
Hydrogen cyanamide, Case 7005 | EPA-HQ-OPP-2007-1014 | Dana L. Friedman, (703) 347-8827, friedman.dana@epa.gov.

Alpha-chlorohydrin. The registration review docket for alpha-chlorohydrin opened in December 2015. For alpha-chlorohydrin, the Agency expedited the registration review and opened the docket with the proposed interim decision and supporting documents. The only registered use for alpha-chlorohydrin is as a tamper-proof bait station/bait application delivery system for elimination of Norway rats. Alpha-chlorohydrin is approved for use in and around commercial/industrial facilities and sanitary sewers. The label prohibits the use of the product in any facility where children may be present, and no outdoor uses are permitted. Exposure to pollinators is unlikely because alpha-chlorohydrin is deployed in a bait station. Therefore, pollinator data will not be required, nor will exposure to pollinators be assessed. The Agency has made the following interim decision: (1) No additional data are required at this time; (2) no changes to the affected registrations or their labeling are needed at this time; and (3) EPA does not expect alpha-chlorohydrin to have direct or indirect adverse effects to non-listed, and listed species or to adversely modify any designated critical habitat for such species, and is making a “no effect” determination under the Endangered Species Act for all listed species and designated critical habitat for such species. At this time, EPA is making no human health or environmental safety findings associated with the Endocrine Disruptor Screening Program (EDSP) screening of alpha-chlorohydrin. EPA's registration review decision for alpha-chlorohydrin will depend upon the result of an EDSP Federal Food, Drug and Cosmetic Act (FFDCA) section 408(p) determination.

Hydrogen cyanamide. Hydrogen cyanamide is a plant growth regulator used to promote uniform bud break in orchard fruit trees and vines; there are no residential uses. It is the only registered plant growth regulator available to induce uniform bud break in United States fruit production, and there are significant economic benefits associated with its use in areas where the critical number of chilling hours needed for bud break do not occur or are not consistent. The Agency conducted a comprehensive human health risk assessment and determined that there are potential risks of concern for occupational handlers, as well as spray drift concerns for bystanders. The occupational risks can be mitigated through modifications to the cyanamide label, and spray drift concerns are addressed by a distance restriction for bystanders. The Agency also conducted an ecological risk assessment and determined that there are potential risks of concern for terrestrial animals, but current use practices and label mitigation address many of these concerns. In this Interim Registration Review Decision, EPA is making no human health or environmental safety findings associated with the EDSP screening of cyanamide or risks to pollinators, nor is it making a complete endangered species finding. The Agency's final registration review decision is dependent upon the assessment of risks to threatened and endangered species, and to pollinators, and of potential endocrine disruptor risk.

Pursuant to 40 CFR 155.57, a registration review decision is the Agency's determination whether a pesticide meets, or does not meet, the standard for registration in FIFRA. EPA has considered alpha-chlorohydrin and hydrogen cyanamide in light of the FIFRA standard for registration. The Interim Decision documents in the docket for these pesticides describe the Agency's rationale for issuing the interim decisions.

In addition to the interim registration review decision documents, the registration review dockets for alpha-chlorohydrin and hydrogen cyanamide include other relevant documents related to the registration review of these pesticides. The proposed interim registration review decisions were posted to the docket and the public was invited to submit any comments or new information. EPA addressed the comments or information received during the comment period in the discussions for alpha-chlorohydrin and hydrogen cyanamide. During the 60-day comment period, the public comments received for both pesticides did not affect the Agency's interim decisions. Pursuant to 40 CFR 155.58(c), the registration review case dockets for alpha-chlorohydrin and hydrogen cyanamide will remain open until all actions required in the interim decision have been completed.

Background on the registration review program is provided at: http://www.epa.gov/oppsrrd1/registration_review. Links to earlier documents related to the registration review of this pesticide are provided at: http://www.epa.gov/oppsrrd1/registration_review/reg_review_status.htm.

Authority: 7 U.S.C. 136 et seq.

Dated: July 6, 2016.
Michael Goodis,
Acting Director, Pesticide Re-Evaluation Division, Office of Pesticide Programs.

[FR Doc. 2016-16708 Filed 7-13-16; 8:45 am]

BILLING CODE 6560-50-P